DEPARTMENT OF THE INTERIOR

Bureau of Land Management

[CO-931-1220-PA]

Invitation of the Public To Review and Comment on Recommended Recreation Guidelines To Meet Land Health Standards

AGENCY: Bureau of Land Management (BLM), Department of the Interior.

ACTION: Notice.

SUMMARY: The BLM has recommended recreation guidelines to meet land health standards for lands administered by BLM in Colorado. This notice serves to announce that the recommended recreation guidelines are available for review and comment by the public.

DATES: The deadline for comment on the recommended recreation guidelines is September 22, 2000.

SUPPLEMENTAL INFORMATION: In February 1997, Standards for Public Land Health in Colorado (Standards) were approved by the Secretary of Interior and adopted as decisions in all of BLM's land use plans, commonly referred to as Resource Management Plans (RMP). The Standards describe natural resource conditions that are needed to sustain public land health. The Standards encompass upland soils; riparian systems; plant and animal communities; special, threatened, and endangered species; and water quality. The Standards relate to all uses of the public lands, including recreational use.

Guidelines are tools, methods, and techniques that can be used by managers to maintain or meet the standards as they implement various programs on the public lands. Previously, livestock grazing guidelines were developed concurrent with the Standards. Colorado BLM now has recreation guidelines designed to meet public land health standards.

In 1999, all three of Colorado's BLM Resource Advisory Councils (RACs) hosted a series of open houses throughout the state to solicit public comment on draft recreation guidelines. The draft guidelines, developed in consultation with the RACs, addressed problems and issues caused by all recreational activities. A major concern that surfaced during the development of the guidelines was that of the adverse impacts from improperly managed off-highway vehicle (OHV) travel. The RACs sent a clear message to BLM in the draft guidelines that addressing OHV issues needs to be a high priority.

In January 2000, BLM formed an implementation team to analyze public input and RAC recommendations for adopting recreation guidelines and addressing OHV use on public lands. The team used the recommendations from the RACs as the framework for preparing the BLM-recommended version of the guidelines. The team is also developing a strategy, to be announced later, that will address issues related to OHVs.

With an awareness and understanding of the social and environmental impacts of outdoor recreation, the recreation guidelines were developed to help achieve and maintain healthy public lands as defined by the Standards. The guidelines are tools, methods, and techniques that can be used by managers to meet the Standards as they implement recreation action and decisions on the ground.

The intent of the recreation guidelines is to encourage and permit a variety of recreational opportunities and enjoyable experiences that are managed to avoid conflicts and serve diverse recreational interests, while at the same time minimizing and preventing adverse impacts to land health, ecosystems, and cultural or natural resources, including historic and archaeological sites, soils, water, air, vegetation, scenery, wildlife habitats, riparian areas, endangered or threatened species, and wilderness areas.

FOR FURTHER INFORMATION CONTACT: Dennis Zachman, Project Management Specialist, Colorado State Office, 2850 Youngfield, Lakewood, Colorado 80215 (303) 239-3883.

A summary of the recommended recreation guidelines is available upon request. Persons can also access this information on the Colorado BLM internet website (www.co.blm.gov).

Dated: August 4, 2000.
Ann J. Morgan,
State Director.

[FR Doc. 00-20648 Filed 8-14-00; 8:45 am]

BILLING CODE 4310-JB-P